DEPARTMENT OF HEALTH AND HUMAN SERVICES

Health Resources and Services Administration

National Vaccine Injury Compensation Program; List of Petitions Received

AGENCY: Health Resources and Services Administration (HRSA), Department of Health and Human Services (HHS).

ACTION: Notice.

SUMMARY: HRSA is publishing this notice of petitions received under the National Vaccine Injury Compensation Program (the Program), as required by the Public Health Service (PHS) Act, as amended. While the Secretary of HHS is named as the respondent in all proceedings brought by the filing of petitions for compensation under the Program, the United States Court of Federal Claims is charged by statute with responsibility for considering and acting upon the petitions.

FOR FURTHER INFORMATION CONTACT: For information about requirements for filing petitions, and the Program in general, contact Lisa L. Reyes, Clerk of Court, United States Court of Federal Claims, 717 Madison Place NW, Washington, DC 20005, (202) 357-6400. For information on HRSA's role in the Program, contact the Director, National Vaccine Injury Compensation Program, 5600 Fishers Lane, Room 8W-25A, Rockville, Maryland 20857; (301) 443-6593, or visit our website at: http://www.hrsa.gov/vaccinecompensation/index.html.

SUPPLEMENTARY INFORMATION: The Program provides a system of no-fault compensation for certain individuals who have been injured by specified childhood vaccines. Subtitle 2 of title XXI of the PHS Act, 42 U.S.C. 300aa-10 et seq., provides that those seeking compensation are to file a petition with the United States Court of Federal Claims and to serve a copy of the petition to the Secretary of HHS, who is named as the respondent in each proceeding. The Secretary has delegated this responsibility under the Program to HRSA. The Court is directed by statute to appoint special masters who take evidence, conduct hearings as appropriate, and make initial decisions as to eligibility for, and amount of, compensation.

A petition may be filed with respect to injuries, disabilities, illnesses, conditions, and deaths resulting from vaccines described in the Vaccine Injury Table (the Table) set forth at 42 CFR 100.3. This Table lists for each covered childhood vaccine the conditions that may lead to compensation and, for each condition, the time period for occurrence of the first symptom or manifestation of onset or of significant aggravation after vaccine administration. Compensation may also be awarded for conditions not listed in the Table and for conditions that are manifested outside the time periods specified in the Table, but only if the petitioner shows that the condition was caused by one of the listed vaccines.

Section 2112(b)(2) of the PHS Act, 42 U.S.C. 300aa-12(b)(2), requires that “[w]ithin 30 days after the Secretary receives service of any petition filed under section 2111 the Secretary shall publish notice of such petition in the Federal Register.” Set forth below is a list of petitions received by HRSA on October 1, 2024, through October 31, 2024. This list provides the name of the petitioner, city, and State of vaccination (if unknown then the city and State of the person or attorney filing the claim), and case number. In cases where the Court has redacted the name of a petitioner and/or the case number, the list reflects such redaction.

Section 2112(b)(2) also provides that the special master “shall afford all interested persons an opportunity to submit relevant, written information” relating to the following:

1. The existence of evidence “that there is not a preponderance of the evidence that the illness, disability, injury, condition, or death described in the petition is due to factors unrelated to the administration of the vaccine described in the petition,” and

2. Any allegation in a petition that the petitioner either:

a. “[S]ustained, or had significantly aggravated, any illness, disability, injury, or condition not set forth in the Vaccine Injury Table but which was caused by” one of the vaccines referred to in the Table, or

b. “[S]ustained, or had significantly aggravated, any illness, disability, injury, or condition set forth in the Vaccine Injury Table the first symptom or manifestation of the onset or significant aggravation of which did not occur within the time period set forth in the Table but which was caused by a vaccine” referred to in the Table.

In accordance with section 2112(b)(2), all interested persons may submit written information relevant to the issues described above in the case of the petitions listed below. Any person choosing to do so should file an original and three (3) copies of the information with the Clerk of the United States Court of Federal Claims at the address listed above (under the heading “For Further Information Contact”), with a copy to HRSA addressed to Director, Division of Injury Compensation Programs, Health Systems Bureau, 5600 Fishers Lane, 8W-25A, Rockville, Maryland 20857. The Court's caption (Petitioner's Name v. Secretary of HHS) and the docket number assigned to the petition should be used as the caption for the written submission. Chapter 35 of title 44, United States Code, related to paperwork reduction, does not apply to information required for purposes of carrying out the Program.

Diana Espinosa,
Principal Deputy Administrator.

List of Petitions Filed

1. Lynne Krispin, Deerwood, Minnesota, Court of Federal Claims No: 24-1546V

2. Julia Carabajal, Las Vegas, Nevada, Court of Federal Claims No: 24-1548V

3. Don Andrew Hampton, Sycamore, Illinois, Court of Federal Claims No: 24-1549V

4. Katelyn Crowley-Lum, Andover, Massachusetts, Court of Federal Claims No: 24-1551V

5. Althea Stevens, Morehead, Kentucky, Court of Federal Claims No: 24-1553V

6. Jose A. Inoa, Stormville, New York, Court of Federal Claims No: 24-1554V

7. Rachel Muzik, Avon, Ohio, Court of Federal Claims No: 24-1555V

8. Terry Ash, Price, Utah, Court of Federal Claims No: 24-1556V

9. Scott Pollina, Wheaton, Illinois, Court of Federal Claims No: 24-1557V

10. Carol Karmonick, Boston, Massachusetts, Court of Federal Claims No: 24-1559V

11. Carroll Williams, Dresher, Pennsylvania, Court of Federal Claims No: 24-1560V

12. Nicole Nickell on behalf of L.C., New Orleans, Louisiana, Court of Federal Claims No: 24-1562V

13. Valinda Torres, Boise, Idaho, Court of Federal Claims No: 24-1564V

14. Stephan P. Densby, Herald, California, Court of Federal Claims No: 24-1565V

15. Jesus Alvarado, Torrance, California, Court of Federal Claims No: 24-1566V

16. Nicole Primeau, Mukilteo, Washington, Court of Federal Claims No: 24-1568V

17. Julie Mertz, Algona, Iowa, Court of Federal Claims No: 24-1569V

18. Natasha Dorsey, Gaithersburg, Maryland, Court of Federal Claims No: 24-1570V

19. Taira Carrasquillo on behalf of L.M., Lisle, Illinois, Court of Federal Claims No: 24-1571V

20. Janet Murray on behalf of K.M., Los Angeles, California, Court of Federal Claims No: 24-1572V

21. Robert Berg, Lake Havasu City, Arizona, Court of Federal Claims No: 24-1573V

22. Steven J. Agnello, Kalamazoo, Michigan, Court of Federal Claims No: 24-1574V

23. Melissa Lagdameo, Dresher, Pennsylvania, Court of Federal Claims No: 24-1576V

24. Loretta Bates, Phoenix, Arizona, Court of Federal Claims No: 24-1578V

25. Brenda Lee Albers, Coldwater, Ohio, Court of Federal Claims No: 24-1579V

26. Shannon Vetere, Owings Mills, Maryland, Court of Federal Claims No: 24-1580V

27. Sarah Black, Grove City, Pennsylvania, Court of Federal Claims No: 24-1581V

28. Rachel Files Goulding, New York, New York, Court of Federal Claims No: 24-1582V

29. Keevia Porter, Horn Lake, Mississippi, Court of Federal Claims No: 24-1583V

30. Elizabeth Andrews-Pannone, Dresher, Pennsylvania, Court of Federal Claims No: 24-1584V

31. John Giammona, Encinitas, California, Court of Federal Claims No: 24-1586V

32. Susan Aguirre, Lakewood, California, Court of Federal Claims No: 24-1590V

33. Jamie Wong, New York, New York, Court of Federal Claims No: 24-1591V

34. Patty Pugh, Buckhannon, West Virginia, Court of Federal Claims No: 24-1592V

35. Sara Primus, Denver, Colorado, Court of Federal Claims No: 24-1593V

36. Marcel Walter Hingle, Newport, Arkansas, Court of Federal Claims No: 24-1594V

37. Rosa Byer, Camp Springs, Maryland, Court of Federal Claims No: 24-1595V

38. Nehemiah N. Nabors, Plymouth, Wisconsin, Court of Federal Claims No: 24-1598V

39. Alaeddine El Alayli, Boston, Massachusetts, Court of Federal Claims No: 24-1600V

40. Tamie Mancuso, DuBois, Pennsylvania, Court of Federal Claims No: 24-1601V

41. Cynthia Price, St. Louis, Missouri, Court of Federal Claims No: 24-1603V

42. Iretha Ross, Earle, Arkansas, Court of Federal Claims No: 24-1604V

43. Stuart Palmer, Joshua, Texas, Court of Federal Claims No: 24-1605V

44. Margarita Zamora Lujano on behalf of E. M., Deceased, Coalinga, California, Court of Federal Claims No: 24-1606V

45. Bettie Blackman, Boston, Massachusetts, Court of Federal Claims No: 24-1607V

46. Kelly Hawkins Skinner, Boston, Massachusetts, Court of Federal Claims No: 24-1609V

47. Miranda Starratt-Chobert, Milton, Florida, Court of Federal Claims No: 24-1610V

48. Daniel Thompson, Washington, District of Columbia, Court of Federal Claims No: 24-1615V

49. Raphael Golb, New York, New York, Court of Federal Claims No: 24-1616V

50. Stanley Bozaich, Atlanta, Georgia, Court of Federal Claims No: 24-1617V

51. Jerene Wickett, Omaha, Nebraska, Court of Federal Claims No: 24-1618V

52. Sarah Reynolds, Lexington, Kentucky, Court of Federal Claims No: 24-1619V

53. Steven Fink, Tampa, Florida, Court of Federal Claims No: 24-1620V

54. Robert Wright, Black River Falls, Wisconsin, Court of Federal Claims No: 24-1622V

55. Stefanie Topp, Charlotte, North Carolina, Court of Federal Claims No: 24-1623V

56. Holly Stair-Goshu, Houston, Texas, Court of Federal Claims No: 24-1625V

57. Cara Hayes, Boston, Massachusetts, Court of Federal Claims No: 24-1626V

58. Rebecca Androli, Buffalo, New York, Court of Federal Claims No: 24-1627V

59. Marisol Rivera, Belvidere, Illinois, Court of Federal Claims No: 24-1628V

60. Carol Wood, Matthews, North Carolina, Court of Federal Claims No: 24-1629V

61. Lisa Skirpan, Enola, Pennsylvania, Court of Federal Claims No: 24-1630V

62. Marta Pike, Wolcott, New York, Court of Federal Claims No: 24-1636V

63. Theresa Akers, Livingston, Texas, Court of Federal Claims No: 24-1637V

64. Lucia Lopez Guzman, Boston, Massachusetts, Court of Federal Claims No: 24-1638V

65. Kaitlyn Wawak on behalf of J.C., Bastrop, Texas, Court of Federal Claims No: 24-1639V

66. Nina Jarrad, Cary, North Carolina, Court of Federal Claims No: 24-1640V

67. Sandra L. Crowley, Cumberland, Rhode Island, Court of Federal Claims No: 24-1642V

68. Cheryl Campos, Littleton, Colorado, Court of Federal Claims No: 24-1643V

69. Jonathan Day, New York, New York, Court of Federal Claims No: 24-1644V

70. Cierra Shaver, Battle Ground, Washington, Court of Federal Claims No: 24-1647V

71. Charles L. Porter, Fox Lake, Wisconsin, Court of Federal Claims No: 24-1649V

72. Shivonne Anfield, Camden, New Jersey, Court of Federal Claims No: 24-1650V

73. Erika Verleye, Seattle, Washington, Court of Federal Claims No: 24-1651V

74. Douglas Bates, Richmond, Virginia, Court of Federal Claims No: 24-1652V

75. Sinisa Kolaric, Marietta, Georgia, Court of Federal Claims No: 24-1654V

76. Shemeka Turner, Dresher, Pennsylvania, Court of Federal Claims No: 24-1656V

77. Kendall Patterson, Tucson, Arizona, Court of Federal Claims No: 24-1657V

78. Kelly Zrimsek, Fitchburg, Massachusetts, Court of Federal Claims No: 24-1659V

79. Grace Reino, Boston, Massachusetts, Court of Federal Claims No: 24-1663V

80. Alexis Lyndon Early, Marysville, Ohio, Court of Federal Claims No: 24-1664V

81. June Augustine, Sykesville, Maryland, Court of Federal Claims No: 24-1667V

82. Jennifer Kazdan, Wallingford, Connecticut, Court of Federal Claims No: 24-1668V

83. Joanne Duitsman, Champaign, Illinois, Court of Federal Claims No: 24-1669V

84. Deborah Fish, Bridgewater Corners, Vermont, Court of Federal Claims No: 24-1670V

85. Linda Talbourdet, Boston, Massachusetts, Court of Federal Claims No: 24-1671V

86. Pa K. Lor, Johnston, Iowa, Court of Federal Claims No: 24-1672V

87. Sandra Bloomenthal, Boston, Massachusetts, Court of Federal Claims No: 24-1673V

88. Sandra Johnson, Dresher, Pennsylvania, Court of Federal Claims No: 24-1674V

89. Joseph Dusrajh, New York, New York, Court of Federal Claims No: 24-1680V

90. Tiffany Blohm, De Pere, Wisconsin, Court of Federal Claims No: 24-1681V

91. Michael T. Wagner, Boscobel, Wisconsin, Court of Federal Claims No: 24-1682V

92. Eric Sedwick, Nashville, Tennessee, Court of Federal Claims No: 24-1684V

93. Rachel Aviles, Boston, Massachusetts, Court of Federal Claims No: 24-1685V

94. Lindsay Maldonado, Toppenish, Washington, Court of Federal Claims No: 24-1686V

95. Timothy Nowling, Garden City Beach, South Carolina, Court of Federal Claims No: 24-1689V

96. Katherine Patterson, Raleigh, North Carolina, Court of Federal Claims No: 24-1690V

97. Ianthie Jayakody, Federal Way, Washington, Court of Federal Claims No: 24-1691V

98. Cathrine Mistele on behalf of J. M., Los Angeles, California, Court of Federal Claims No: 24-1692V

99. Alicia Ann Knight, Colorado Springs, Colorado, Court of Federal Claims No: 24-1694V

100. Charles Jones, La Grande, Oregon, Court of Federal Claims No: 24-1697V

101. Ashley Loncarich-Boeckman, Tulsa, Oklahoma, Court of Federal Claims No: 24-1698V

102. Aida Acosta, Howell, Michigan, Court of Federal Claims No: 24-1699V

103. Valerie Hoff, Atlanta, Georgia, Court of Federal Claims No: 24-1700V

104. Sofia Gunawan, Phoenix, Arizona, Court of Federal Claims No: 24-1701V

105. Felicia Markham, Redlands, Texas, Court of Federal Claims No: 24-1702V

106. Makayla Wagner, St. Ansgar, Iowa, Court of Federal Claims No: 24-1703V

107. Kimberly Rice, Chicago, Illinois, Court of Federal Claims No: 24-1704V

108. Jennifer Camacho, Rock Hill, South Carolina, Court of Federal Claims No: 24-1708V

109. Christopher Budge, White Bear Lake, Minnesota, Court of Federal Claims No: 24-1709V

110. George Ward, Florence, Kentucky, Court of Federal Claims No: 24-1711V

111. Heather J. Gardner, Port Huron, Michigan, Court of Federal Claims No: 24-1712V

112. Maxfel Goodson, Ketchikan, Alaska, Court of Federal Claims No: 24-1713V

113. Christine Leo, Goshen, New York, Court of Federal Claims No: 24-1716V

114. Amie Marcott on behalf of A. M., Brownstown Township, Michigan, Court of Federal Claims No: 24-1717V

115. Karen Kun, Chicago, Illinois, Court of Federal Claims No: 24-1718V

116. Jennifer Plumley, Bozeman, Montana, Court of Federal Claims No: 24-1721V

117. Leandra Logston and Cody Logston on behalf of A. G. L., Boston, Massachusetts, Court of Federal Claims No: 24-1724V

118. Kimberly Pino, Dresher, Pennsylvania, Court of Federal Claims No: 24-1728V

119. Gregory Fridell, San Diego, California, Court of Federal Claims No: 24-1730V

120. Virginia Fisher, Hornell, New York, Court of Federal Claims No: 24-1732V

121. Michael Seck, Boston, Massachusetts, Court of Federal Claims No: 24-1733V

122. Kaley Stockton, Los Angeles, California, Court of Federal Claims No: 24-1736V

123. Robyn Boyd, Los Angeles, California, Court of Federal Claims No: 24-1737V

124. Verdie Atienza, Chesapeake, Virginia, Court of Federal Claims No: 24-1738V

125. Sabaha Sabi Zagwolsky, Orange, California, Court of Federal Claims No: 24-1739V

126. Edward Cummings, Philadelphia, Pennsylvania, Court of Federal Claims No: 24-1742V

127. Daniel Diehl, Fort Knox, Kentucky, Court of Federal Claims No: 24-1743V

128. Jennifer Credeur, Frisco, Texas, Court of Federal Claims No: 24-1746V

129. Michael Dugas, Ventura, California, Court of Federal Claims No: 24-1747V

130. Anife Tashi, Boston, Massachusetts, Court of Federal Claims No: 24-1748V

131. John Morris, Los Angeles, California, Court of Federal Claims No: 24-1751V

132. Adrianna Mckeage, Los Angeles, California, Court of Federal Claims No: 24-1752V

133. Melissa Weber, New York, New York, Court of Federal Claims No: 24-1753V

134. Kari Morey, Los Angeles, California, Court of Federal Claims No: 24-1754V

135. Gary L. Tranmer, South Sioux City, Nebraska, Court of Federal Claims No: 24-1755V

136. Tracey Kubis, Dresher, Pennsylvania, Court of Federal Claims No: 24-1756V

137. Sonia Bittar, Quincy, Massachusetts, Court of Federal Claims No: 24-1757V

138. Manuela Sympson, Ames, Iowa, Court of Federal Claims No: 24-1758V

139. Bryan Payne, New Orleans, Louisiana, Court of Federal Claims No: 24-1759V

140. Sara A. Morse, Hyde Park, New York, Court of Federal Claims No: 24-1765V

141. Patricia Pervenanze, Minneapolis, Minnesota, Court of Federal Claims No: 24-1768V

142. Elizabeth Christensen, Burlington, Washington, Court of Federal Claims No: 24-1769V

143. Cathy A. Smeal, Ellsworth, Maine, Court of Federal Claims No: 24-1772V

144. Ryan Stroup, Phoenix, Arizona, Court of Federal Claims No: 24-1775V

145. Carol Bielski on behalf of Wayne Bielski, Washington, District of Columbia, Court of Federal Claims No: 24-1777V

146. Kimberly Cross, Richmond, Virginia, Court of Federal Claims No: 24-1778V

147. Lily McNulty and Conor McNulty on behalf of J.M., Phoenix, Arizona, Court of Federal Claims No: 24-1779V

148. Mackenzie Larsen, Columbus, Ohio, Court of Federal Claims No: 24-1782V

149. Clara Trigueros, Woodridge, Illinois, Court of Federal Claims No: 24-1783V

150. John Lewis Walston, Austin, Texas, Court of Federal Claims No: 24-1785V

151. Estella Fluaitt, Rockford, Illinois, Court of Federal Claims No: 24-1786V

152. Gail L. Smith, Englewood, New Jersey, Court of Federal Claims No: 24-1788V

153. Ryleigh Francis, Phoenix, Arizona, Court of Federal Claims No: 24-1789V

154. Tyronda Roberson, Woodridge, Illinois, Court of Federal Claims No: 24-1790V

155. Thomas Judge, New York, New York, Court of Federal Claims No: 24-1793

[FR Doc. 2024-30457 Filed 12-19-24; 8:45 am]

BILLING CODE 4165-15-P